DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Populations.

Time and Date: 10 a.m.-4:45 p.m., July 17, 2000; 9 a.m.-1 p.m., July 18, 2000.

Place: Room 705A, Hubert H. Hemphrey Building, 200 Independence Avenue, SW., Washington, DC 20201.

Status: Open.

Purpose: At this meeting, the Subcommittee on Populations will continue to assess the feasibility of using the International Classification of Impairments, Disabilities, and Handicaps (ICIDH) system to classify functional status on administrative health records, such as enrollment forms for health plans, records of medical encounters, and standardized attachments to such records. Panelists will explore issues related to the potential application of the ICIDH for such records and will discuss data collection and measurement efforts necessary to address the issues effectively. This is the third of several public meetings being planned by the Subcommittee to discuss the topic of the feasibility of recording functional status on administrative health records.

Notice: In the interest of security, the Department has instituted stringent procedures for entrance to the Hubert H. Humphrey Building by non-government employees. Thus, persons without a government identification card will need to have the guard call for an escort to the meeting.

For Further Information Contact: Substantive program information as well as summaries of meetings and a roster of committee members may be obtained from Susan G. Queen, Lead Staff Person for the NCVHS Subcommittee on Populations, Division of Information and Analysis, Office of the Administrator, Health Resources and Services Administration, Room 14-22, 5600 Fishers Lane, Rockville, Maryland, 20852, telephone (301) 443-1129; or Marjorie S. Greenberg, Executive Secretary, NVCHS, NCHS, CDC, Room 1100, Presidential Building, 6525 Belcrest Road, Hyattsville, Maryland 20782, telephone (301) 458-4245. Information also is available on the NCVHS home page of the HHS website: http://www.ncvhs.hhs.gov/, where an agenda for the meeting will be posted when available.

Dated: July 5, 2000.
James Scanlon,
Director, Division of Date Policy, Office of the Assistant Secretary for Planning and Evaluation.

[FR Doc. 00-17632 Filed 7-11-00; 8:45 am]

BILLING CODE 4151-05-M